SMALL BUSINESS ADMINISTRATION

[Disaster Declaration #10163]

South Dakota Disaster #SD-00001

AGENCY: U.S. Small Business Administration.

ACTION: Notice.

SUMMARY: This is a Notice of the Presidential declaration of a major disaster for Public Assistance Only for the State of South Dakota (FEMA-1596-DR), dated 07/22/2005.

Incident: Severe Storm.

Incident Period: 06/07/2005 through 06/08/2005.

Effective Date: 07/22/2005.

Physical Loan Application Deadline Date: 09/20/2005.

ADDRESSES: Submit completed loan applications to : U.S. Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 07/22/2005, applications for Private Non-Profit organizations that provide essential services of a governmental nature may file disaster loan applications at the address listed above or other locally announced locations.

The following areas have been determined to be adversely affected by the disaster:

Primary Counties: Corson, Faulk, Hyde, Potter, Spink, Stanley, Sully.

The Interest Rates are: Other (Including Non-Profit Organizations) with Credit Available Elsewhere: 4.750. Businesses and Non-Profit Organizations Without Credit Available Elsewhere: 4.000.

The number assigned to this disaster for physical damage is 10163.

(Catalog of Federal Domestic Assistance Number 59008)

Herbert L. Mitchell,
Associate Administrator for Disaster Assistance.

[FR Doc. 05-16696 Filed 8-22-05; 8:45 am]

BILLING CODE 8025-01-P